DEPARTMENT OF TRANSPORTATION

Federal Aviation Administration

14 CFR Part 23

Airworthiness Standards: Normal, Utility, Acrobatic, and Commuter Category Airplanes

CFR Correction

In Title 14, of the Code of Federal Regulations, revised as of January 1, 2007, on page 227, in § 23.561, paragraph (d)(1), remove the second entry for pargraphs (i) through (iv), and remove (d)(1)(v).

[FR Doc. 07-55519 Filed 10-22-07; 8:45 am]

BILLING CODE 1505-01-D